DEPARTMENT OF TRANSPORTATION

Coast Guard

33 CFR Part 117

[CGD07-00-054]

Drawbridge Operation Regulations; Wappoo Creek (ICW), Charleston, SC

AGENCY: Coast Guard, DOT.

ACTION: Notice of temporary deviation from regulations.

SUMMARY: The Commander, Seventh Coast Guard District, has approved a temporary deviation from the regulations governing the operation of the Wappoo Creek (SC Route 171) drawbridge across the Atlantic Intracoastal Waterway, mile 470.8, Charleston, Charleston County, South Carolina. This deviation allows the drawbridge owner or operator to open only a single leaf. This temporary deviation is required from June 22, 2000 until August 19, 2000, to allow the bridge owner to safely conduct necessary repairs to the drawbridge. Double leaf openings are available with a one-hour notice to the bridge tender.

DATES: This deviation is effective from June 22, 2000 to August 19, 2000.

FOR FURTHER INFORMATION CONTACT: Mr. Barry Dragon, Chief, Operations Section, Seventh Coast Guard District, Bridge Section at (305) 415-6743.

SUPPLEMENTARY INFORMATION: The Wappoo Creek (SC 171) drawbridge across the Atlantic Intracoastal Waterway at Charleston, has a vertical clearance of 33 feet above mean high water (MHW) and 38 feet above mean low water (MLW) measured at the fenders in the closed position. On May 22, 2000, Coastal Marine Construction, Incorporated, the contractor representing the drawbridge owner, requested a deviation from the current operating regulation in 33 CFR 117.5 which requires drawbridge to open promptly and fully when a request to open is given. This temporary deviation was requested to allow necessary repairs to the drawbridge.

The District Commander has granted a temporary deviation for the purpose of conducting repairs to the drawbridge. Under this deviation, the Wappoo Creek (SC Route 171) Drawbridge need only open one leaf of the drawbridge except when a double leaf opening is requested with a one-hour notice. The single-leaf openings are scheduled for a period of 10 days beginning on June 22, 2000 and ending on July 2, 2000 and a period of 41 days beginning on July 6, 2000 and ending on August 19, 2000.

Dated: June 2, 2000.
Greg Shapley,
Chief, Bridge Branch, Seventh Coast Guard District 2.

[FR Doc. 00-14653 Filed 6-8-00; 8:45 am]

BILLING CODE 4910-15-U